DEPARTMENT OF DEFENSE

Department of the Army, Corps of Engineers

[COE-2021-0007]

Development of the National Levee Safety Program

AGENCY: U.S. Army Corps of Engineers, DoD.

ACTION: Notice.

SUMMARY: The U.S. Army Corps of Engineers (USACE) and the Federal Emergency Management Agency (FEMA) launched the new National Levee Safety Program, authorized by the National Levee Safety Act of 2007, in the fall of 2021. This program is different from the USACE Levee Safety Program. The purpose of the National Levee Safety Program is to improve the way levees are managed throughout the United States and its territories to reduce the impact of flooding and improve the resilience of communities behind levees. There are four major components that are intended to work together to accomplish the goals of the program: National Levee Safety Guidelines; Integrated Levee Management; National Levee Database and Data Collection; and Implementation Support. This notice announces the start of Phase 2 which is the solicitation of input on draft products and resources developed based on input received during Phase 1 stakeholder engagement activities.

DATES: Comments related to Phase 2 of the National Levee Safety Program must be submitted on or before June 30, 2023.

ADDRESSES: You may submit comments identified by docket number COE-2021-0007 by any of the following methods:

Federal eRulemaking Portal: Visit www.regulations.gov and follow the instructions for submitting comments.

Email: Send an email to hq-leveesafety@usace.army.mil and include the docket number, COE-2021-0007, in the subject line of the message.

Mail: U.S. Army Corps of Engineers Vicksburg District, ATTN: Levee Safety Center—Rm. 221, 4155 East Clay Street, Vicksburg, MS 39183.

Hand Delivery/Courier: Due to security requirements, we cannot receive comments by hand delivery or courier.

Instructions: If submitting comments through the Federal eRulemaking Portal, direct your comments to docket number COE-2021-0007. All comments received will be included in the public docket without change and may be made available on-line at www.regulations.gov, including any personal information provided, unless the commenter indicates that the comment includes information claimed to be Confidential Business Information (CBI) or other information whose disclosure is restricted by statute. Do not submit information that you consider to be CBI, or otherwise protected, through regulations.gov or email. The regulations.gov website is an anonymous access system, which means we will not know your identity or contact information unless you provide it in the body of your comment. If you send an email directly to USACE without going through regulations.gov, your email address will be automatically captured and included as part of the comment that is placed in the public docket and made available on the internet. If you submit an electronic comment, we recommend that you include your name and other contact information in the body of your comment and with any disk or CD-ROM you submit. If we cannot read your comment because of technical difficulties and cannot contact you for clarification, we may not be able to consider your comment. Electronic comments should avoid the use of any special characters, any form of encryption, and be free of any defects or viruses.

Docket: For access to the docket to read background documents or comments received, go to www.regulations.gov. All documents in the docket are listed. Although listed in the index, some information is not publicly available, such as CBI or other information whose disclosure is restricted by statute. Certain other material, such as copyrighted material, is not placed on the internet and will be publicly available only in hard copy form.

FOR FURTHER INFORMATION CONTACT: Ms. Tammy Conforti at 202-365-6586, email hq-leveesafety@usace.army.mil or visit www.leveesafety.org.

SUPPLEMENTARY INFORMATION: One of the foundations of the National Levee Safety Program is stakeholder engagement with those who are responsible for, are impacted by, or have interest in levees and related policies including federal/Tribal Nations/state/local governments, levee owners/operators, businesses, floodplain managers and residents. The goals for the stakeholder engagement process are to:

1. Understand the needs of the stakeholders this program is intended to support;

2. Provide opportunities for meaningful input to shape decisions and outcomes on program design, components, and products; and,

3. Ensure that the unique challenges related to levees faced by Tribal Nations and underserved communities are well understood and incorporated into solutions.

The purpose of the National Levee Safety Program is to improve the way levees are managed throughout the United States and its territories to reduce the impacts of flooding and improve the resilience of communities behind levees. Managing flood risk is a shared responsibility between federal, Tribal Nations, state, and local entities. USACE and FEMA are interested in the views of the public regarding how the National Levee Safety Program and each of its components can be implemented to best serve those responsible for and impacted by flood risk management efforts. The four major components of the National Levee Safety Program are intended to work together to accomplish the goals of the program: National Levee Safety Guidelines; Integrated Levee Management; National Levee Database and Data Collection; and Implementation Support. There are fact sheets and additional information related to each of these components at www.leveesafety.org.

USACE and FEMA continue their commitment to seek feedback from stakeholders at various phases of the program's development. Phase 1 completed in the Spring of 2022, was focused on gathering initial input on the purpose and scope of each of the components of the National Levee Safety Program to better understand the needs and priorities of the public. Phase 2 focuses on soliciting feedback on draft products and options identified during Phase 1 (scoping). Phase 3 is anticipated to occur during the Fall of 2023 with a focus on soliciting feedback on draft program implementation products. During each phase, stakeholders can submit comments through a variety of methods. Each phase will have an open comment period under docket number COE-2021-0007.

For Phase 2, comments are being sought on the progress of the program, content for the National Levee Safety Guidelines, an outline for a new Levee Management Guide for levee owners/operators, a new levee cost brochure, and updates to the National Levee Database. Questions and supplementary information to assist in providing feedback can be found at www.leveesafety.org. In addition to the webinars and in-person meetings listed below, a separate set of coordination activities with national and regional Tribal organizations and Tribal Nations are being planned.

Topic-Specific Webinars: USACE will offer a series of topic-specific webinars that will provide background and supplementary information on the draft products being presented for stakeholder feedback during Phase 2. Webinars are open to anyone, and participants must register by visiting www.leveesafety.org. Webinar dates and topics include:

April 11 and May 9, 2023—National Levee Safety Guidelines (1-2:30 p.m. ET)

April 13 and May 11, 2023—Levee Management Resources (1-2:30 p.m. ET)

April 18 and May 31, 2023—State Levee Activities (1-2 p.m. ET)

April 20 and June 6, 2023—National Levee Database (1-2 p.m. ET)

In-person Meetings (National Levee Safety Guidelines): In addition to the webinar series, USACE will host four in-person meetings focused specifically on seeking feedback on sample content from the National Levee Safety Guidelines. Meetings are open to anyone, and participants must register by visiting www.leveesafety.org. Each meeting will be limited to 100 people. Dates and locations include:

April 25, 2023—The Westin St. Louis, 811 Spruce Street, St. Louis, MO (12-5 p.m. CT)

May 3, 2023—Houston Marriott South, 9100 Gulf Freeway, Houston, TX (12-5 p.m. CT)

May 17, 2023—Holiday Inn Sacramento Downtown Arena, 300 J Street, Sacramento, CA (12-5 p.m. PT)

May 23, 2023—Embassy Suites by Hilton, 9000 Bartram Avenue, Philadelphia, PA (12-5 p.m. ET)

In-person Meetings (Levee Management Resources): USACE will also host four in-person meetings focused specifically on seeking feedback on draft levee management resources including an outline for a new Levee Management Guide for levee owners/operators, a new levee cost brochure, excerpts from operations and maintenance manual and emergency action plan templates, and updates to the National Levee Database. These meetings are geared towards those with levee responsibilities including Tribal Nations, states, levee owner/operators, local officials, and emergency managers. Participants must register by visiting www.leveesafety.org, and each meeting will be limited to 25 people. Dates and locations include:

April 26, 2023—The Westin St. Louis, 811 Spruce Street, St. Louis, MO (12-5 p.m. CT)

May 4, 2023—Houston Marriott South, 9100 Gulf Freeway, Houston, TX (12-5 p.m. CT)

May 18, 2023—Holiday Inn Sacramento Downtown Arena, 300 J Street, Sacramento, CA (12-5 p.m. PT)

May 24, 2023—Embassy Suites by Hilton, 9000 Bartram Avenue, Philadelphia, PA (12-5 p.m. ET)

Michael L. Connor,
Assistant Secretary of the Army, (Civil Works).

[FR Doc. 2023-08397 Filed 4-20-23; 8:45 am]

BILLING CODE 3720-58-P